DEPARTMENT OF THE INTERIOR

National Park Service

[NPS-WASO-NRSS-NPS0027926; PPWONRADD3; PPMRSNR1Y.NM0000; 199P103601 (200); OMB Control Number 1024-0236]

Agency Information Collection Activities; Research Permit and Reporting System Applications and Reports

AGENCY: National Park Service, Interior.

ACTION: Notice of information collection; request for comment.

SUMMARY: In accordance with the Paperwork Reduction Act of 1995, we, the National Park Service (NPS) are proposing to renew an information collection.

DATES: Interested persons are invited to submit comments on or before May 18, 2020.

ADDRESSES: Send your written comments on this information collection request (ICR) by mail to Phadrea Ponds, Acting NPS Information Collection Clearance Officer,1201 Oakridge Drive Fort Collins, CO 80525; or by email to phadrea_ponds@nps.gov. Please reference Office of Management and Budget (OMB) Control Number 1024-0236 in the subject line of your comments.

FOR FURTHER INFORMATION CONTACT: To request additional information about this ICR, contact Bill Commins by email at bill_commins@nps.gov, or by telephone at 202-513-7166.

SUPPLEMENTARY INFORMATION: In accordance with the PRA and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: NPS policy mandates research studies and specimen collection conducted by researchers, other than NPS employees on official duty, require an NPS scientific research and collecting permit. The permitting process adheres to regulations codified in 36 CFR 2.1 which prohibit the disturbing, removing, or possessing of natural, cultural, and archeological resources. Additionally, regulations codified in 36 CFR 2.5 govern the collection of specimens in parks for the purpose of research, baseline inventories, monitoring, impact analysis, group study, or museum display.

As required by these regulations, a permitting system is managed for scientific research and collecting. NPS Forms 10-741a, “Application for a Scientific Research and Collecting Permit” and 10-741b, “Application for a Science Education Permit,” are used to collect information from persons seeking a permit to conduct natural or social science research and collection activities in individual units of the National Park System. The information we collect includes, but is not limited to:

• Applicant contact information.

• Project title, purpose of study, summary of proposed field methods and activities, and study and field schedules.

• Location where scientific activities are proposed to take place, including method of access.

• Whether or not specimens are proposed to be collected or handled, and if so, scientific descriptions and proposed disposition of specimens.

• If specimens are to be permanently retained, the proposed repositories for those specimens.

Individuals who receive a permit must report annually on the activities conducted under the permit. Form 10-226, “Investigator's Annual Report” collects the following information:

• Reporting year, park, and type of permit.

• Applicant contact information, and names of additional investigators.

• Project title, park-assigned study or activity number, park-assigned permit number, permit start and expiration dates, and scientific study start and ending dates.

• Activity type, subject discipline, purpose of study or activity during the reporting year, and finding and status of study or accomplishments of education activity during the reporting year.

We use the information in this collection to manage the use and preservation of park resources, and to report the status of permitted research and collecting activities. We encourage respondents to use the web-based, automated Research Permit and Reporting System (RPRS) to complete and submit applications and reports. Additional information about existing applications, reporting forms, guidance and explanatory material can be found on the RPRS website (https://irma.nps.gov/RPRS/).

Title of Collection: Research Permit and Reporting System Applications and Reports, 36 CFR 2.1 and 2.5.

OMB Control Number: 1024-0236.

Form Number: NPS Forms 10-226, 10-741a, and 10-741b.

Type of Review: Extension of a currently approved collection.

Respondents/Affected Public: Individuals/households; businesses; academic and research institutions; and Federal, State, local, and tribal governments.

Respondent's Obligation: Required to obtain or retain a benefit.

Frequency of Collection: On occasion for applications; annually for reports.

Total Estimated Annual Nonhour Burden Cost: None.

| Annual respondents | Total annual responses | Avg. time per response (minutes) | Total annual burden hours (rounded)
Form 10-226, “Investigator's Annual Report”:
Individual | 217 | 217 | 15 | 54
Private Sector | 1,700 | 1,700 | 15 | 425
State, Local, or Tribal Governments | 1,300 | 1,300 | 15 | 325
Total | 3,217 | 3,217 |  | 804
Form 10-741a, “Application for a Scientific Research and Collecting Permit”:
Individual | 272 | 272 | 98 | 444
Private Sector | 1,600 | 1,600 | 98 | 2,613
State, Local, or Tribal Governments | 1,400 | 1,400 | 98 | 2,287
Total | 3,272 | 3,272 |  | 5,344
Form 10-741b, “Application for a Science Education Permit”:
Individual | 30 | 30 | 60 | 30
Private Sector | 50 | 50 | 60 | 50
State, Local, or Tribal Governments | 50 | 50 | 60 | 50
Total | 130 | 130 |  | 130
Totals | 6,619 | 6,619 |  | 6,278

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2020-05529 Filed 3-17-20; 8:45 am]

BILLING CODE 4312-52-P